DEPARTMENT OF AGRICULTURE

Forest Service

Florida National Forests Resource Advisory Committee

AGENCY: Forest Service, USDA.

ACTION: Notice of meeting.

SUMMARY: The Florida National Forests Resource Advisory Committee will meet in Tallahassee, FL. The committee is authorized under the Secure Rural Schools and Community Self-Determination Act (Pub. L 110-343) (the Act) and operates in compliance with the Federal Advisory Committee Act. The purpose of the committee is to improve collaborative relationships and to provide advice and recommendations to the Forest Service concerning projects and funding consistent with the title II of the Act. The meeting is open to the public. The purpose of the meeting is to review and recommend for funding those projects agreed to by the committee. Anyone interested in National Forest management may attend.

DATES: The meeting will be held September 18, 2012, at 3 p.m. EST.

ADDRESSES: The meeting will be held at the Forest Supervisor's Office, 325 John Knox Road, Suite F-100, Tallahassee, FL 32303. Many of the participants are participating via conference call and interested members of the public can listen in and participate at the Forest Supervisor's Office. Written comments may be submitted as described under Supplementary Information. All comments, including names and addresses when provided, are placed in the record and are available for public inspection and copying. The public may inspect comments received at the Forest Supervisor's Office (address above). Please call ahead to 850-523-8568 to facilitate entry into the building to view comments.

FOR FURTHER INFORMATION CONTACT: Denise Rains, Public Affairs Officer, National Forests in Florida, 850-523-8568, email drains@fs.fed.us.

Individuals who use telecommunication devices for the deaf (TDD) may call the Federal Information Relay Service (FIRS) at 1-800-877-8339 between 8 a.m. and 8 p.m., Eastern Standard Time, Monday through Friday. Please make requests in advance for sign language interpreting, assistive listening devices or other reasonable accomodation for access to the facility or procedings by contacting the person listed For Further Information.

SUPPLEMENTARY INFORMATION: The following business will be conducted: Committee will review proposed projects and, after coming to a consensus on worthy projects, recommend those for funding. Visit the National Forests in Florida's Web site for more information including the meeting agenda http://www.fs.usda.gov/florida. Anyone who would like to bring related matters to the attention of the committee may file written statements with the committee staff before or after the meeting.

The agenda will include time for people to make oral statements of three minutes or less. Individuals wishing to make an oral statement should request in writing by September 7, 2012 to be scheduled on the agenda. Written comments and requests for time for oral comments must be sent to Denise Rains, U.S. Forest Service, 325 John Knox Road, Suite F-100, Tallahassee, FL 32303, or by email to drains@fs.fed.us, or via facsimile to 850-523-8505, Attention: Denise Rains. A summary of the meeting will be posted at http://www.fs.usda.gov/florida within 21 days of the meeting.

Dated: August 2, 2012.
Susan Jeheber-Matthews,
Forest Supervisor.

[FR Doc. 2012-19543 Filed 8-9-12; 8:45 am]

BILLING CODE 3410-11-P